SECURITIES AND EXCHANGE COMMISSION

[File No. 500-1]

In the Matter of AI Document Services, Inc., Creative Edge Nutrition, Inc. and Interactive Health Network; Order of Suspension of Trading

February 19, 2016.

It appears to the Securities and Exchange Commission that there is a lack of current and accurate information concerning the securities of AI Document Services, Inc. because of questions concerning the accuracy and adequacy of publicly available information about the company, including, among other things, the control of the company and trading in its securities. AI Document Services, Inc. is a Delaware corporation with its principal offices in Atlanta, Georgia and its common stock is quoted on OTC Link (previously “Pink Sheets”) operated by OTC Markets Group, Inc. (“OTC Link”) under the ticker symbol AIDC.

It appears to the Securities and Exchange Commission that there is a lack of current and accurate information concerning the securities of Creative Edge Nutrition, Inc. because of questions concerning the accuracy and adequacy of publicly available information about the company, including, among other things, the control of the company and trading in its securities. Creative Edge Nutrition, Inc. is a Nevada corporation with its principal offices in Beverly Hills, California and its common stock is quoted on OTC Link under the ticker symbol FITX.

It appears to the Securities and Exchange Commission that there is a lack of current and accurate information concerning the securities of Interactive Health Network because of questions concerning the accuracy and adequacy of publicly available information about the company, including, among other things, the control of the company and trading in its securities. Interactive Health Network is a Nevada corporation with its principal offices in Reno, Nevada and its common stock is quoted on OTC Link under the ticker symbol IGRW.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 19, 2016, through 11:59 p.m. EST on March 3, 2016.

By the Commission.
Brent J. Fields,
Secretary.

[FR Doc. 2016-03847 Filed 2-19-16; 4:15 pm]

BILLING CODE 8011-01-P